DEPARTMENT OF THE TREASURY

Internal Revenue Service

Open Meeting of the Taxpayer Advocacy Panel Earned Income Tax Credit Issue Committee

AGENCY: Internal Revenue Service (IRS), Treasury.

ACTION: Notice.

SUMMARY: An open meeting of the Taxpayer Advocacy Panel Earned Income Tax Credit Issue Committee will be conducted in New Orleans, Louisiana. The Taxpayer Advocacy Panel is soliciting public comments, ideas and suggestions on improving customer service at the Internal Revenue Service.

DATES: The meeting will be held Monday, August 16, 2004 and Tuesday, August 17, 2004.

FOR FURTHER INFORMATION CONTACT: Audrey Y. Jenkins at 1-888-912-1227 (toll-free), or 718-488-2085 (non toll-free).

SUPPLEMENTARY INFORMATION: Notice is hereby given pursuant to Section 10(a)(2) of the Federal Advisory Committee Act, 5 U.S.C. App. (1988) that a meeting of the Taxpayer Advocacy Panel Earned Income Tax Credit Issue Committee will be held Monday, August 16, 2004 from 8:30 a.m. et to 5 p.m. et and Tuesday, August 17, 2004 from 8 a.m. et to 12 noon et in New Orleans, Louisiana at the InterContinental New Orleans Hotel located at 444 St. Charles Avenue, New Orleans, Louisiana 70130. Individual comments will be limited to 5 minutes per person. For information or to confirm attendance, notification of intent to attend the meeting must be made with Audrey Y. Jenkins. Ms. Jenkins may be reached at 1-888-912-1227 or (718) 488-2085, or write Audrey Y. Jenkins, TAP Office, 10 MetroTech Center, 625 Fulton Street, Brooklyn, NY 11201, or post comments to the Web site: http://www.improveirs.org.

The agenda will include: Various IRS issues.

Dated: July 19, 2004.
Tersheia Carter,
Acting Director, Taxpayer Advocacy Panel.

[FR Doc. 04-16751 Filed 7-21-04; 8:45 am]

BILLING CODE 4830-01-P